DEPARTMENT OF AGRICULTURE

Forest Service

Modoc County Resource Advisory Committee

AGENCY: Forest Service, USDA.

ACTION: Notice of meeting.

SUMMARY: The Modoc County Resource Advisory Committee will meet in Alturas, CA. The committee is meeting as authorized under the Secure Rural Schools and Community Self-Determination Act (Pub. L. 110-343) and in compliance with the Federal Advisory Committee Act. The purpose of the meeting is to review Resource Advisory Committee Project Applications.

DATES: The meeting will be held May 3, 2010, 6 p.m.

ADDRESSES: The meeting will be held at Modoc National Forest Office, Conference Room, 800 West 12th St., Alturas.

FOR FURTHER INFORMATION CONTACT: Tom Hudson, Forest Supervisor and Designated Federal Officer, at (530) 233-8700; or Resource Advisory Coordinator, Stephen Riley at (530) 233-8771.

SUPPLEMENTARY INFORMATION: The business meeting on February 2, March 9 and May 4, 2009 will begin at 4 pm., at the Modoc National Forest Office, Conference Room, 800 West 12th St., Alturas, California 96101. Agenda topics will include election of Chairperson, review of Charter and Guidelines, and discussion of the process for receiving project proposals that meet the intent of Public Law 110-343. Time will also be set aside for public comments at the beginning of the meeting.

Tom Hudson,
Forest Supervisor.

[FR Doc. 2010-9600 Filed 4-23-10; 8:45 am]

BILLING CODE P